ENVIRONMENTAL PROTECTION AGENCY

40 CFR Part 52

[TN-200507; FRL-7972-5]

Approval and Promulgation of Air Quality Implementation Plans; Nashville-Davidson County; Revised Format for Materials Being Incorporated by Reference

AGENCY: Environmental Protection Agency (EPA).

ACTION: Final rule; notice of administrative change.

SUMMARY: EPA is revising the format of part 52 of Title 40 of the Code of Federal Regulations (40 CFR part 52) for materials submitted by Nashville-Davidson County that are incorporated by reference (IBR) into the State Implementation Plan (SIP). The regulations affected by this format change have all been previously submitted by the local agency and approved by EPA.

This format revision will affect the “Identification of Plan” sections of 40 CFR part 52, by adding a table for the Nashville-Davidson portion of the Tennessee SIP. This revision will also affect the format of the SIP materials that will be available for public inspection at the Office of the Federal Register (OFR), the Air and Radiation Docket and Information Center, and the Regional Office.

DATES: This action is effective October 6, 2005.

ADDRESSES: SIP materials which are incorporated by reference into 40 CFR part 52 are available for inspection at the following locations: EPA, Region 4, 61 Forsyth Street, SW., Atlanta, GA 30303; the EPA, Air and Radiation Docket and Information Center, Air Docket (Mail Code 6102T), 1200 Pennsylvania Avenue, NW., Washington, DC 20460, and the National Archives and Records Administration (NARA). For information on the availability of this material at NARA, call 202-741-6030, or go to: http://www.archives.gov/federal_register/code_of_federal_regulations/ibr_locations.html.

FOR FURTHER INFORMATION CONTACT: Ms. Stacy DiFrank at the above Region 4 address or at (404) 562-9042. Email: difrank.stacy@epa.gov.

SUPPLEMENTARY INFORMATION: Each state has a SIP containing the control measures and strategies used to attain and maintain the national ambient air quality standards (NAAQS). The SIP is extensive, containing such elements as air pollution control regulations, emission inventories, monitoring networks, attainment demonstrations, and enforcement mechanisms.

Each state must formally adopt the control measures and strategies in the SIP after the public has had an opportunity to comment on them and then submit the SIP to EPA. Once these control measures and strategies are approved by EPA, after notice and comment, they are incorporated into the federally approved SIP and are identified in 40 CFR part 52 “Approval and Promulgation of Implementation Plans.” The full text of the state regulation approved by EPA is not reproduced in its entirety in 40 CFR part 52, but is “incorporated by reference.” This means that EPA has approved a given state regulation with a specific effective date. The public is referred to the location of the full text version should they want to know which measures are contained in a given SIP. The information provided allows EPA and the public to monitor the extent to which a state implements a SIP to attain and maintain the NAAQS and to take enforcement action if necessary.

The SIP is a living document which the state can revise as necessary to address the unique air pollution problems in the state. Therefore, EPA from time to time must take action on SIP revisions containing new and/or revised regulations as being part of the SIP. On May 22, 1997, (62 FR 27968), EPA revised the procedures for IBR into the Code of Federal Regulations, materials submitted by states in their EPA-approved SIP revisions. These changes revised the format for the identification of the SIP in 40 CFR part 52, streamlined the mechanisms for announcing EPA approval of revisions to a SIP, and streamlined the mechanisms for EPA's updating of the IBR information contained for each SIP in 40 CFR part 52. Pursuant to these revised procedures, EPA is revising the format for the identification of the Nashville-Davidson County portion of the Tennessee SIP, appearing in 40 CFR part 52. EPA has previously revised the format for the identification of the Tennessee SIP and the Memphis Shelby County, Knox County and Chattanooga portions of the SIP.

EPA has determined that today's action falls under the “good cause” exemption in section 553(b)(3)(B) of the Administrative Procedure Act (APA) which, upon finding “good cause,” authorizes agencies to dispense with public participation, and APA section 553(d)(3) which allows an agency to make an action effective immediately (thereby avoiding the 30-day delayed effective date otherwise provided for in the APA). Today's administrative action simply codifies provisions which are already in effect as a matter of law in Federal and approved state programs. Under section 553 of the APA, an agency may find good cause where procedures are “impractical, unnecessary, or contrary to the public interest.” Public comment for this administrative action is “unnecessary” and “contrary to the public interest” since the codification only reflects existing law. Immediate notice of this action in the Federal Register benefits the public by providing the public notice of the Nashville-Davidson County portion of the Tennessee SIP in Tennessee's “Identification of Plan” portion of the Federal Register.

Statutory and Executive Order Reviews

A. General Requirement

Under Executive Order 12866 (58 FR 51735, October 4, 1993), this administrative action is not a “significant regulatory action” and is therefore not subject to review by the Office of Management and Budget. This action is not subject to Executive Order 13211, “Actions Concerning Regulations That Significantly Affect Energy Supply, Distribution, or Use” (66 FR 28355, May 22, 2001) because it is not a significant regulatory action under Executive Order 12866. Because the Agency has made a “good cause” finding that this action is not subject to notice-and-comment requirements under the APA or any other statute as indicated in the Supplementary Information section above, it is not subject to the regulatory flexibility provisions of the Regulatory Flexibility Act (5 U.S.C 601 et seq.), or to sections 202 and 205 of the Unfunded Mandates Reform Act of 1995 (UMRA) (Pub. L. 104-4). In addition, this action does not significantly or uniquely affect small governments or impose a significant intergovernmental mandate, as described in sections 203 and 204 of UMRA. This administrative action also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the National Government and the States, or on the distribution of power and responsibilities among the various levels of government, as specified in Executive Order 13132 (64 FR 43255, August 10, 1999). This administrative action also is not subject to Executive Order 13045 (62 FR 19885, April 23, 1997), because it is not economically significant. This administrative action does not involve technical standards; thus the requirements of section 12(d) of the National Technology Transfer and Advancement Act of 1995 (15 U.S.C. 272 note) do not apply. This administrative action also does not involve special consideration of environmental justice related issues as required by Executive Order 12898 (59 FR 7629, February 16, 1994). This administrative action does not impose an information collection burden under the Paperwork Reduction Act of 1995 (44 U.S.C. 3501 et seq.). EPA's compliance with these Statutes and Executive Orders for the underlying rules are discussed in previous actions taken on Nashville-Davidson County, Tennessee's rules.

B. Submission to Congress and the Comptroller General

The Congressional Review Act (CRA) (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. Today's administrative action simply codifies provisions which are already in effect as a matter of law in Federal and approved State programs. 5 U.S.C. 808(2). These announced actions were effective when EPA approved them through previous rulemaking actions. EPA will submit a report containing this action and other required information to the U.S. Senate, the U.S. House of Representatives, and the Comptroller General of the United States prior to publication of this action in the Federal Register. This revision to Nashville-Davidson's portion of the Tennessee SIP in the “Identification of Plan” section of 40 CFR part 52 is not a “major rule” as defined by 5 U.S.C. 804(2).

C. Petitions for Judicial Review

EPA has also determined that the provisions of section 307(b)(1) of the Clean Air Act pertaining to petitions for judicial review are not applicable to this action. This action is simply an announcement of prior rulemakings that have previously undergone notice-and-comment rulemaking. Prior EPA rulemaking actions for each individual component of the Nashville-Davidson portion of the Tennessee SIP previously afforded interested parties the opportunity to file a petition for judicial review in the United States Court of Appeals for the appropriate circuit within 60 days of such rulemaking action.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: September 8, 2005.
A. Stanley Meiburg,
Acting Regional Administrator, Region 4.

40 CFR part 52 is amended as follows:

PART 52—[AMENDED]

1. The authority for citation for part 52 continues to read as follows:

Authority: 42 U.S.C. 7401 et seq.

Subpart RR—Tennessee

2. Section 52.2220 is amended by:

A. Revising paragraph (b), and

B. Adding table 5 in paragraph (c) for Nashville-Davidson County, “EPA Approved Nashville-Davidson County Regulations” to read as follows:

§ 52.2220 Identification of plan.

* * * * *

(b) Incorporation by reference.

(1) Material listed in paragraph (c) of this section with an EPA approval date prior to December 1, 1998, for Tennessee (Table 1, the Tennessee State Implementation Plan), January 1, 2003 for Memphis Shelby County (Table 2, the Memphis Shelby County portion of the Tennessee State Implementation Plan), March 1, 2005, for Knox County (Table 3, the Knox County portion of the Tennessee State Implementation Plan), April 1, 2005 for Chattanooga, Tennessee (Table 4, the Chattanooga portion of the Tennessee State Implementation Plan), April 1, 2005, for Nashville-Davidson County (Table 5, the Nashville-Davidson County portion of the Tennessee State Implementation Plan) and paragraph (d) of this section with an EPA approval date prior to December 1, 1998, was approved for incorporation by reference by the Director of the Federal Register in accordance with 5 U.S.C. 552(a) and 1 CFR part 51. Material is incorporated as it exists on the date of the approval, and notice of any change in the material will be published in the Federal Register. Entries in paragraph (c) of this section with EPA approval dates after December 1, 1998, for Tennessee (Table 1, the Tennessee State Implementation Plan), January 1, 2003 for Memphis Shelby County (Table 2, the Memphis Shelby County portion of the Tennessee State Implementation Plan), March 1, 2005, for Knox County (Table 3, the Knox County portion of the Tennessee State Implementation Plan), April 1, 2005 for Chattanooga (Table 4, the Chattanooga portion of the Tennessee State Implementation Plan), April 1, 2005, for Nashville-Davidson County (Table 5, the Nashville-Davidson County portion of the Tennessee State Implementation Plan) and paragraph (d) of this section with an EPA approval date prior to December 1, 1998, will be incorporated by reference in the next update to the SIP compilation.

(2) EPA Region 4 certifies that the rules/regulations provided by EPA in the SIP compilation at the addresses in paragraph (b)(3) of this section are an exact duplicate of the officially promulgated State rules/regulations which have been approved as part of the State implementation plan as of the dates referenced in paragraph (b)(1).

(3) Copies of the materials incorporated by reference may be inspected at the Region 4 EPA Office at 61 Forsyth Street, SW., Atlanta, GA 30303; the EPA, Air and Radiation Docket and Information Center, Air Docket (Mail Code 6102T), 1200 Pennsylvania Avenue, NW., Washington, DC 20460 and the National Archives and Records Administration (NARA). For information on the availability of this material at NARA, call 202-741-6030, or go to: http://www.archives.gov/federal_register/code_of_federal_regulations/ibr_locations.html.

Table 5.—EPA Approved Nashville-Davidson County, Regulations
State citation | Title/subject | State effective date | EPA approval date | Explanation
Chapter 10.56. Air Pollution Control
Section 10.56.010 | Definitions | 03/12/97 | 12/31/98, 63 FR 72195 |
Article I. Administration and Enforcement
Section 10.56.020 + | Construction Permits | 10/06/94 | 09/06/96, 61 FR 47057 |
Section 10.56.040 | Operating Permit | 12/14/95 | 05/30/97, 62 FR 29301 |
Section 10.56.050 | Exemptions | 12/14/95 | 05/30/97, 62 FR 29301 |
Section 10.56.060 | Transferability of Permit | 10/06/94 | 09/06/96, 61 FR 47057 |
Section 10.56.070 | Suspension or Revocation of Permit | 10/06/94 | 09/06/96, 61 FR 47057 |
Section 10.56.080 | Permit and Annual Emission Fees | 03/12/97 | 12/31/98, 63 FR 72195 |
Section 10.56.090 | Board—Powers and Duties | 10/06/94 | 09/06/96, 61 FR 47057 |
Section 10.56.100 | Board—Consideration of Facts and Circumstances | 10/06/94 | 09/06/96, 61 FR 47057 |
Section 10.56.110 | Rules and Regulations —Hearings Procedure | 10/06/94 | 09/06/96, 61 FR 47057 |
Section 10.56.120 | Complaint Notice—Hearings Procedure | 10/06/94 | 09/06/96, 61 FR 47057 |
Section 10.56.130 | Variances—Hearings Procedure | 10/06/94 | 09/06/96, 61 FR 47057 |
Section 10.56.140 | Emergency Measures—Hearings Procedure | 10/06/94 | 09/06/96, 61 FR 47057 |
Article II. Standards for Operation
Section 10.56.160 | Ambient Air Quality Standards | 03/12/97 | 12/31/98, 63 FR 72195 |
Section 10.56.170 | Emission of Gases, Vapors or Objectionable Odors | 10/06/94 | 09/06/96, 61 FR 47057 |
Section 10.56.180 | Laundry Operations—Dryer and Vent Pipe Requirements | 10/06/94 | 09/06/96, 61 FR 47057
Section 10.56.190 | Controlling Wind-Borne Materials | 10/06/94 | 09/06/96, 61 FR 47057 |
Section 10.56.200 | Sale, Use or Consumption of Solid and Liquid Fuels | 10/06/94 | 09/06/96, 61 FR 47057 |
Section 10.56.220 | Fuel-Burning Equipment | 10/06/94 | 09/06/96, 61 FR 47057 |
Section 10.56.230 | Incinerators | 10/06/94 | 09/06/96, 61 FR 47057 |
Section 10.56.240 | Internal Combustion Engines | 12/14/95 | 05/30/97, 62 FR 29301 |
Section 10.56.250 | Open Burning | 10/06/94 | 09/06/96, 61 FR 47057 |
Section 10.56.260 | Process Emissions | 10/06/94 | 09/06/96, 61 FR 47057 |
Section 10.56.270 | Visible Emissions | 10/06/94 | 09/06/96, 61 FR 47057 |
Section 10.56.280 | Start-ups, Shutdowns and Malfunctions | 03/12/97 | 12/31/98, 63 FR 72195 |
Section 10.56.290 | Measurement and Reporting of Emissions | 10/06/94 | 09/06/96, 61 FR 47057 |
Section 10.56.300 | Testing Procedures | 10/06/94 | 09/06/96, 61 FR 47057 |
Section 10.56.310 | Severability | 10/06/94 | 09/06/96, 61 FR 47057 |
Regulation No. 1 | Prevention, Abatement and Control of Air Control Contaminants from Open Burning | 06/28/79 | 08/13/80, 45 FR 53810
Regulation No. 2 | Prevention, Abatement and Control of Air Contaminants from Materials Subject to Becoming Windborne | 06/28/79 | 08/13/80, 45 FR 53810
Regulation No. 3 | New Source Review
Section 3-1 | Definitions | 11/13/96 | 06/17/97, 62 FR 32688
Section 3-2 | Registration and Permits | 11/13/96 | 06/17/97, 62 FR 32688
Section 3-3 | Prevention of Significant Deterioration (PSD) Review | 11/13/96 | 06/17/97, 62 FR 32688
Regulation No. 6 | Emission Monitoring of Stationary Sources
Section 6.1 | Definitions | 05/22/77 | 03/22/78, 43 FR 11819
Section 6.2 | Monitoring of Emissions | 05/22/77 | 03/22/78, 43 FR 11819
Section 6.3 | Equipment Specifications | 05/22/77 | 03/22/78, 43 FR 11819
Section 6.4 | Monitoring System Malfunction | 05/22/77 | 03/22/78, 43 FR 11819
Section 6.5 | Recording and Reporting | 05/22/77 | 03/22/78, 43 FR 11819
Section 6.6 | Data Reduction | 05/22/77 | 03/22/78, 43 FR 11819
Regulation No. 7 | Regulation for Control of Volatile Organic Compounds
Section 7-1 | Definitions | 11/13/96 | 06/17/97, 62 FR 32688
Section 7-2 | General Provisions and Applicability | 11/13/96 | 06/17/97, 62 FR 32688
Section 7-3 | Petition for Alternative Controls | 12/10/91 | 06/26/92, 57 FR 28625
Section 7-4 | Compliance Certification, Recordkeeping and Reporting Requirements | 11/13/96 | 06/17/97, 62 FR 32688
Section 7-5 | Emission Standards for Coil Coating | 11/13/96 | 06/17/97, 62 FR 32688
Section 7-6 | Emission Standards for Paper Coating | 11/13/96 | 06/17/97, 62 FR 32688
Section 7-7 | Emission Standards for Fabric and Vinyl Coating | 11/13/96 | 06/17/97, 62 FR 32688
Section 7-8 | Emission Standards for Metal Furniture Coating | 11/13/96 | 06/17/97, 62 FR 32688
Section 7-9 | Emission Standards for Surface Coating of Large Appliances | 11/13/96 | 06/17/97, 62 FR 32688
Section 7-10 | Petroleum Liquid Storage | 11/13/96 | 06/17/97, 62 FR 32688
Section 7-11 | Bulk Gasoline Plants | 12/10/91 | 06/26/92, 57 FR 28265
Section 7-12 | Bulk Gasoline Terminals | 12/10/91 | 06/26/92, 57 FR 28265
Section 7-13 | Gasoline Dispensing Facility, Stage 1 | 12/10/91 | 06/26/92, 57 FR 28265
Section 7-14 | Solvent Metal Cleaning | 12/10/91 | 06/26/92, 57 FR 28265
Section 7-15 | Prohibition of Cutback Asphalt | 12/10/91 | 06/26/92, 57 FR 28265
Section 7-16 | Emission Standards for Surface Coating of Miscellaneous Metal Parts and Products | 07/09/97 | 10/08/98, 63 FR 54053
Section 7-17 | Manufacture of Pneumatic Tires | 11/13/96 | 06/17/97, 62 FR 32688
Section 7-18 | Graphic Arts—Rotogravure and Flexography | 12/10/91 | 06/26/92, 57 FR 28265
Section 7-20 | Petroleum Solvent Dry Cleaners | 11/13/96 | 06/17/97, 62 FR 32688
Section 7-21 | Volatile Organic Liquid Storage In External Floating Roof Tanks | 11/13/96 | 06/17/97, 62 FR 32688
Section 7-22 | Leaks from Synthetic Organic Chemical, Polymer, and Resin Manufacturing Equipment | 11/13/96 | 06/17/97, 62 FR 32688
Section 7-23 | Air Oxidation Processes in the Synthetic Organic Chemical Manufacturer's Industry | 11/13/96 | 06/17/97, 62 FR 32688
Section 7-24 | Test Methods and Procedures | 11/13/96 | 06/17/97, 62 FR 32688
Section 7-26 | Special Provisions for New Volatile Organic Compund Sources and Modifications | 11/13/96 | 06/17/97, 62 FR 32688
Section 7-27 | Handling, Storage, Use, and Disposal of Volatile Organic Compounds (VOC) | 11/13/96 | 06/17/97, 62 FR 32688
Section 7-28 | Surface Coating of Plastic Parts | 11/13/96 | 06/17/97, 62 FR 32688
Regulation No. 8 | Regulation of Emissions from Light-Duty Motor Vehicles Through Mandatory Vehicle Inspection and Maintenance Program
Section 8-1 | Definitions | 10/04/94 | 07/28/95, 60 FR 28694
Section 8-2 | Motor Vehicle Inspection Requirement | 10/04/94 | 07/28/95, 60 FR 28694
Section 8-3 | Exemption from Motor Vehicle Inspection Equipment | 10/04/94 | 07/28/95; 60 FR 28694
Section 8-4 | Motor Vehicle Emission Performance Test Criteria | 10/04/94 | 07/28/95, 60 FR 28694
Section 8-5 | Motor Vehicle Anti-Tampering Test Criteria | 10/04/94 | 07/28/95, 60 FR 28694
Section 8-6 | Motor Vehicle Emissions Performance Test Methods | 10/04/94 | 07/28/95, 60 FR 28694
Section 8-7 | Motor Vehicle Safety Equipment Test Methods | 10/04/94 | 07/28/95, 60 FR 28694
Section 8-8 | Motor Vehicle Inspection Program | 10/04/94 | 07/28/95, 60 FR 28694
Section 8-9 | Motor Vehicle Inspection Fee | 10/04/94 | 07/28/95, 60 FR 28694
Section 8-10 | Severability | 10/04/94 | 07/28/95, 60 FR 28694
Regulation No. 10 | Infectious Waste Incinerators
Section 10-1 | Definitions | 10/06/94 | 09/06/96, 61 FR 47057
Section 10-2 | Prohibited Act | 10/06/94 | 09/06/96, 61 FR 47057
Section 10-3 | Emission Standards | 10/06/94 | 09/06/96, 61 FR 47057
Section 10-4 | Performance Specifications | 10/06/94 | 09/06/96, 61 FR 47057
Section 10-5 | Monitoring Requirements | 10/06/94 | 09/06/96, 61 FR 47057
Section 10-6 | Compliance Schedule for Existing Infectious Waste Incinerators | 10/06/94 | 09/06/96, 61 FR 47057
Section 10-7 | Testing Requirement | 10/06/94 | 09/06/96, 61 FR 47057
Section 10-8 | Recordkeeping and Reporting Requirements | 10/06/94 | 09/06/96, 61 FR 47057
Section 10-9 | Severability | 10/06/94 | 09/06/96, 61 FR 47057
Regulation No. 11 | Emergency Episode Regulation
Section 11-1 | Episode Criteria | 11/13/96 | 06/17/97, 62 FR 32688
Section 11-2 | Emission Reductions | 11/13/96 | 06/17/97, 62 FR 32688
Regulation No. 14 | Regulation for Control of Nitrogen Oxides
Section 14-1 | Definitions | 08/10/93 | 06/29/96, 61 FR 39326
Section 14-2 | Emission Standards | 08/10/93 | 06/29/96, 61 FR 39326
Section 14-3 | Procedures for Determining RACT | 08/10/93 | 06/29/96, 61 FR 39326
Section 14-4 | Recordkeeping and Reporting Requirements | 08/10/93 | 06/29/96, 61 FR 39326
Section 14-5 | Compliance Schedule | 08/10/93 | 06/29/96, 61 FR 39326

* * * * *

[FR Doc. 05-20005 Filed 10-5-05; 8:45 am]

BILLING CODE 6560-50-P